DEPARTMENT OF TRANSPORTATION

Federal Aviation Administration

14 CFR Part 39

[Docket No. FAA-2014-0448; Directorate Identifier 2013-NM-055-AD; Amendment 39-18048; AD 2014-25-06]

RIN 2120-AA64

Airworthiness Directives; Airbus Airplanes

AGENCY: Federal Aviation Administration (FAA), Department of Transportation (DOT).

ACTION: Final rule.

SUMMARY: We are adopting a new airworthiness directive (AD) for all Airbus Model A300 series airplanes; Airbus Model A300 B4-600, B4-600R, and F4-600R series airplanes, and Model A300 C4-605R Variant F airplanes (collectively called Model A300-600 series airplanes); and Airbus Model A310 series airplanes. This AD was prompted by a report of early ruptures on the levers of the nose landing gear (NLG) sequence valve. This AD requires a one-time inspection for damage of the landing gear sequence valve levers and pin shearing indicating areas on the NLG and the main landing gears (MLGs); and depending on findings, replacing the sequence valve and lever, or doing a one-time inspection to detect interference between control rods and sequence valves and corrective actions if necessary. We are issuing this AD to detect and correct interference between a landing gear leg and door, which could result in failure of that landing gear to extend and could damage the airplane and injure occupants.

DATES: This AD becomes effective January 20, 2015.

The Director of the Federal Register approved the incorporation by reference of certain publications listed in this AD as of January 20, 2015.

ADDRESSES: You may examine the AD docket on the Internet at http://www.regulations.gov/#!docketDetail;D=FAA-2014-0448; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to all Airbus Model A300 series airplanes; Airbus Model A300 B4-600, B4-600R, and F4-600R series airplanes, and Model A300 C4-605R Variant F airplanes (collectively called Model A300-600 series airplanes); and Airbus Model A310 series airplanes. The NPRM published in the Federal Register on July 16, 2014 (79 FR 41459).

The European Aviation Safety Agency (EASA), which is the Technical Agent for the Member States of the European Community, has issued EASA Airworthiness Directive 2013-0058, dated March 11, 2013 (referred to after this as the Mandatory Continuing Airworthiness Information, or “the MCAI”), to correct an unsafe condition for all Airbus Model A300 series airplanes; Airbus Model A300 B4-600, B4-600R, and F4-600R series airplanes, and Model A300 C4-605R Variant F airplanes (collectively called Model A300-600 series airplanes); and Airbus Model A310 series airplanes. The MCAI states:

Operators have reported five cases of early ruptures on levers of the nose landing gear (NLG) sequence valve.

Analysis showed that these fatigue ruptures were due to an incorrect adjustment of the mechanical links. As the design of the main landing gear (MLG) sequence valve lever is similar, there is sufficient reason to assume that these parts are similarly affected by fatigue.

This condition, if not detected and corrected, could lead to interference between landing gear leg and door and consequent failure of the landing gear to extend, possibly resulting in damage to the aeroplane and injury to occupants.

For the reasons described above, this [EASA] AD requires a one-time inspection of the sequence valve control lever [for damage, which could include cracking or deformation], of the adjustment of the control rod between doors and landing gear sequence valve and depending on inspections results, accomplishment of applicable corrective actions.

The corrective actions include adjusting the control rod between the door and the sequence valves; adjusting mechanical linkages; and replacing/installing a serviceable valve and lever. You may examine the MCAI in the AD docket on the Internet at http://www.regulations.gov/#!documentDetail;D=FAA-2014-0448-0002.

Comments

We gave the public the opportunity to participate in developing this AD. We received no comments on the NPRM (79 FR 41459, July 16, 2014) or on the determination of the cost to the public.

Conclusion

We reviewed the relevant data and determined that air safety and the public interest require adopting this AD as proposed except for minor editorial changes. We have determined that these minor changes:

• Are consistent with the intent that was proposed in the NPRM (79 FR 41459, July 16, 2014) for correcting the unsafe condition; and

• Do not add any additional burden upon the public than was already proposed in the NPRM (79 FR 41459, July 16, 2014).

Costs of Compliance

We estimate that this AD affects 128 airplanes of U.S. registry.

We also estimate that it would take about 4 work-hours per product to comply with the basic requirements of this AD. The average labor rate is $85 per work-hour. Based on these figures, we estimate the cost of this AD on U.S. operators to be $43,520, or $340 per product.

In addition, we estimate that any necessary follow-on actions would take up to 9 work-hours and require parts costing up to $42,000, for a cost of $42,765 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0448; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-25-06 Airbus: Amendment 39-18048. Docket No. FAA-2014-0448; Directorate Identifier 2013-NM-055-AD.

(a) Effective Date

This AD becomes effective January 20, 2015.

(b) Affected ADs

None.

(c) Applicability

This AD applies to all Airbus airplanes identified in paragraphs (c)(1), (c)(2), and (c)(3) of this AD, certificated in any category.

(1) Model A300 B2-1A, B2-1C, B2K-3C, B2-203, B4-2C, B4-103, and B4-203 airplanes.

(2) Model A300 B4-601, B4-603, B4-620, B4-622, B4-605R, B4-622R, F4-605R, F4-622R, and C4-605R Variant F airplanes.

(3) Model A310-203, -204, -221, -222, -304, -322, -324, and -325 airplanes.

(d) Subject

Air Transport Association (ATA) of America Code 32, Landing Gear.

(e) Reason

This AD was prompted by a report of early ruptures on the levers of the nose landing gear (NLG) sequence valve. We are issuing this AD to detect and correct interference between a landing gear leg and door, which could result in failure of that landing gear to extend, and could damage the airplane and injure occupants.

(f) Compliance

Comply with this AD within the compliance times specified, unless already done.

(g) Service Information

Do the actions required by paragraph (h) of this AD in accordance with the applicable service information identified in paragraphs (g)(1) through (g)(3) of this AD.

(1) For Model A300 airplanes: Airbus Service Bulletin A300-32-0464, dated July 17, 2012.

(2) For Model A300-600 airplanes: Airbus Service Bulletin A300-32-6110, dated July 17, 2012.

(3) For Model A310 airplanes: Airbus Service Bulletin A310-32-2146, dated July 17, 2012.

(h) Inspections and Corrective Actions

Within 4,000 flight cycles, 6,000 flight hours, or 30 months after the effective date of this AD, whichever occurs first: Do a detailed inspection of each sequence valve lever and pin shearing indicating area on the nose landing gear and main landing gears for any damage, in accordance with the Accomplishment Instructions of the applicable service information identified in paragraphs (g)(1) through (g)(3) of this AD. Do the actions required by paragraphs (h)(1) and (h)(2) of this AD in accordance with the Accomplishment Instructions of the applicable service information identified in paragraphs (g)(1) through (g)(3) of this AD.

(1) If damage is found, before further flight, replace the affected sequence valve and its lever with a serviceable sequence valve and lever. No further action is required by paragraph (h) of this AD for that replaced valve and lever.

(2) If no damage is found, within the compliance time required by paragraph (h) of this AD, do a detailed inspection to detect interference between the landing gear door control rod and the landing gear sequence valve, and do all applicable corrective actions. Do all applicable corrective actions before further flight. No further action is required by paragraph (h) of this AD.

(3) For the purposes of this AD, a detailed inspection is: An intensive examination of a specific item, installation, or assembly to detect damage, failure, or irregularity. Available lighting is normally supplemented with a direct source of good lighting at an intensity deemed appropriate. Inspection aids such as mirror, magnifying lenses, etc., may be necessary. Surface cleaning and elaborate procedures may be required.

(i) Parts Installation Limitation

As of the effective date of this AD, no person may install on any airplane a landing gear sequence valve, unless that valve has been inspected and corrected, as applicable, in accordance with the requirements of paragraph (h) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) EASA Airworthiness Directive 2013-0058, dated March 11, 2013, or related information. This MCAI may be found in the AD docket on the Internet at http://www.regulations.gov/#!documentDetail;D=FAA-2014-0448-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-32-0464, dated July 17, 2012.

(ii) Airbus Service Bulletin A300-32-6110, dated July 17, 2012.

(iii) Airbus Service Bulletin A310-32-2146, dated July 17, 2012.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 5, 2014.
Michael Kaszycki,
Acting Manager, Transport Airplane Directorate, Aircraft Certification Service.

[FR Doc. 2014-29228 Filed 12-15-14; 8:45 am]

BILLING CODE 4910-13-P